DEPARTMENT OF ENERGY

Federal Energy Regulatory Commission

[Docket No. CP11-24-000]

Ryckman Creek Resources, LLC; Notice of Availability of the Environmental Assessment for the Proposed Ryckman Creek Storage Field Project

The staff of the Federal Energy Regulatory Commission (FERC or Commission) has prepared an environmental assessment (EA) for the Ryckman Creek Storage Field Project proposed by Ryckman Creek Resources, LLC (Ryckman) in the above-referenced docket. Ryckman requests authorization to construct and operate the Project, which involves converting an existing partially depleted oil field, known as the Ryckman Creek (Nugget Unit), into a new interstate natural gas storage field. The Project is located approximately 15 miles northeast of Evanston in Uinta County, Wyoming.

Concurrent with the development of the gas storage field, Ryckman proposes to initiate enhanced oil recovery (EOR) operations of the oil reserves remaining in the Nugget Unit. The construction and operation of the EOR facilities would be under the jurisdiction of the Wyoming Oil and Gas Conservation Commission, as well as subject to the regulations of the U.S. Bureau of Land Management (BLM), where applicable.

The EA assesses the potential environmental effects of the construction and operation of the Ryckman Creek Storage Field Project in accordance with the requirements of the National Environmental Policy Act of 1969 (NEPA). The FERC staff concludes that approval of the proposed project, with appropriate mitigating measures, would not constitute a major federal action significantly affecting the quality of the human environment.

The BLM participated as a cooperating agency in the preparation of the EA. Cooperating agencies have jurisdiction by law or special expertise with respect to resources potentially affected by the proposal and participate in the NEPA analysis. The BLM has participated as a cooperating agency in the preparation of the EA to satisfy its respective NEPA and planning responsibilities since the Project would cross federal land under the jurisdiction of the Kemmerer Field Office in Wyoming. Under sections 17 and 28 of the Mineral Leasing Act of 1920, (30 U.S.C. 185(f) and 226(m)) the BLM has the authority to issue underground gas storage agreements and right-of-way grants for all affected federal lands. This would be in accordance with Title 43 Code of Federal Regulations (CFR) Parts 2800, 2880, and 5105.5 subsequent 2800, 2880, and 3160-11 Manuals, and Handbook 2801-1. As a cooperating agency, the BLM would adopt the EA per Title 40 CFR 1506.3 to meet its responsibilities under NEPA in considering Ryckman Creek's application for a Right-of-Way Grant and Temporary Use Permit for the portion of the Project on federal land, by the Kemmerer Field Office, High Desert District; and the issuance of an Underground Gas Storage Agreement by the Wyoming State Office, Reservoir Management Group, Casper, Wyoming. The decision record will be signed following the FERC determination of public convenience and necessity for this project, and posted on the BLM NEPA Web site at http://www.blm.gov/wy/st/en/info/NEPA/documents/kfo.html.

The proposed Ryckman Creek Storage Field Project includes the following:

• Drill and complete up to six horizontal injection/withdrawal (I/W) wells;

• Re-enter up to two well for use as observation wells;

• Re-enter/re-complete up to two saltwater disposal wells;

• Modify the existing Canyon Creek Compressor Station and its ancillary facilities modified by the addition of up to eight new electric motor-driven compressors with up to 33,000 horsepower (hp) for a total of up to 55,000 hp of compression;

• Install three bi-directional meters for the interconnections with the Kern River, Questar, and Overthrust pipelines;

• Construct a central gas/liquids separation and storage facility (Ryckman Plant) where all of the pipelines meet, containing oil, water and gas handling, and natural gas liquids (NGL) storage equipment; and it would also contain a small electric-drive compressor to compress casinghead gas for use in the (EOR) operations;

• Construct approximately 4.03 mile 16-inch diameter header pipeline to connect the Ryckman Plant to the Canyon Creek Compressor Station;

• Construct approximately 4.8 miles of new 8-inch diameter storage field flowlines;

• Install amine, triethylene glycol (TEG) and mole sieve dehydration, NGL extraction, hydrocarbon dew point control and nitrogen rejection unit (NRU) process equipment at the Canyon Creek Compressor Station;

• Re-enter/re-complete up to 12 existing vertical production wells for use in the EOR operations;

• Re-use existing production well gathering system for use in the EOR operations;

• Construct an approximately 0.9 mile 3-inch diameter NGL pipeline from the Canyon Creek Compression Station to a third-party liquids pipeline.

• Construct a 4.03-mile-long electric power line from the 138 kV electric substation at the Canyon Creek Compressor Station to the Ryckman Plant; and

• Use of temporary laydown and support facilities and ancillary facilities necessary to operate and maintain the Project.

The EA has been placed in the public files of the FERC and is available for public viewing on the FERC's Web site at http://www.ferc.gov using the eLibrary link. A limited number of copies of the EA are available for distribution and public inspection at: Federal Energy Regulatory Commission, Public Reference Room, 888 First Street, NE., Room 2A, Washington, DC 20426, (202) 502-8371.

Copies of the EA have been mailed to Federal, State, and local government representatives and agencies; elected officials; environmental and public interest groups; Native American tribes; potentially affected landowners and other interested individuals and groups; newspapers and libraries in the project area; and parties to this proceeding.

Any person wishing to comment on the EA may do so. Your comments should focus on the potential environmental effects, reasonable alternatives, and measures to avoid or lessen environmental impacts. The more specific your comments, the more useful they will be. To ensure that your comments are properly recorded and considered prior to a Commission decision on the proposal, it is important that the FERC receives your comments in Washington, DC on or before May 23, 2011.

For your convenience, there are three methods you can use to submit your comments to the Commission. In all instances, please reference the project docket number (CP11-24-000) with your submission. The Commission encourages electronic filing of comments and has dedicated eFiling expert staff available to assist you at (202) 502-8258 or efiling@ferc.gov.

(1) You may file your comments electronically by using the eComment feature, which is located on the Commission's Web site at http://www.ferc.gov under the link to Documents and Filings. An eComment is an easy method for interested persons to submit brief, text-only comments on a project;

(2) You may file your comments electronically by using the eFiling feature, which is located on the Commission's Web site at http://www.ferc.gov under the link to Documents and Filings. With eFiling, you can provide comments in a variety of formats by attaching them as a file with your submission. New eFiling users must first create an account by clicking on “eRegister.” You will be asked to select the type of filing you are making. A comment on a particular project is considered a “Comment on a Filing”; or

(3) You may file a paper copy of your comments at the following address: Kimberly D. Bose, Secretary, Federal Energy Regulatory Commission, 888 First Street, NE., Room 1A, Washington, DC 20426.

Although your comments will be considered by the Commission, simply filing comments will not serve to make the commenter a party to the proceeding. Any person seeking to become a party to the proceeding must file a motion to intervene pursuant to Rule 214 of the Commission's Rules of Practice and Procedures (18 CFR 385.214).¹ Only intervenors have the right to seek rehearing of the Commission's decision.

¹ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your comments considered.

Additional information about the project is available from the Commission's Office of External Affairs, at (866) 208-FERC or on the FERC Web site (http://www.ferc.gov) using the eLibrary link. Click on the eLibrary link, click on “General Search” and enter the docket number excluding the last three digits in the Docket Number field (i.e., CP11-24-000). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to http://www.ferc.gov/esubscribenow.htm.

Dated: April 22, 2011.
Kimberly D. Bose,
Secretary.

[FR Doc. 2011-10308 Filed 4-28-11; 8:45 am]

BILLING CODE 6717-01-P